DEPARTMENT OF ENERGY

Federal Energy Regulatory Commission

[Docket Nos. EC05-114-000, ER05-1258-000]

FPL Energy Duane Arnold, LLC; Interstate Power and Light Company; Notice of Filing

August 3, 2005.

Take notice that on July 29, 2005, FPL Energy Duane Arnold, LLC (FPLE Duane Arnold) and Interstate Power and Light Company (IPL) filed with the Federal Energy Regulatory Commission an application pursuant to section 203 of the Federal Power Act for authorization of the sale of the majority ownership interests in Duane Arnold Energy Center (DAEC) from IPL to FPLE Duane Arnold, a wholly-owned, direct subsidiary of FPL Group, Inc. In addition, IPL is submitting for filing a Large Generator Interconnection Agreement.

The applicants also are requesting confidential treatment pursuant to 18 CFR 388.112 for certain data submitted in support of the application.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 28, 2005.

Linda Mitry,
Deputy Secretary.

[FR Doc. E5-4286 Filed 8-8-05; 8:45 am]

BILLING CODE 6717-01-P